DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20 1980, as amended most recently at 17 FR 50065, dated August 24, 2006) is amended to reflect the title change for the Division of Hereditary Blood Disorders, National Center on Birth Defects and Developmental Disabilities, Coordinating Center for Health Promotion, Centers for Disease Control and Prevention.

Section C-B, Organization and Functions, is hereby amended as follows:

Delete in its entirety the title for the Division of Hereditary Blood Disorders (CUBD), and insert the Division of Blood Disorders (CUBD).

Dated: November 15, 2006.
William H. Gimson,
Chief Operating Officer, Centers for Disease Control and Prevention (CDC).

[FR Doc. 06-9472 Filed 11-29-06; 8:45 am]

BILLING CODE 4160-18-M